DEPARTMENT OF HEALTH AND HUMAN SERVICES

National Institutes of Health

National Institute of Mental Health; Notice of Meeting

Pursuant to section 10(a) of the Federal Advisory Committee Act, as amended (5 U.S.C. App.), notice is hereby given of a meeting of the Subcommittee for Planning the Annual Strategic Planning Process of the Interagency Autism Coordinating Committee (IACC).

The purpose of the Subcommittee for Planning the Annual Strategic Planning Process is to plan the process for updating the IACC Strategic Plan for Autism Spectrum Disorder Research. The Subcommittee meeting will be conducted as a telephone conference call. This meeting is open to the public through a conference call phone number.

Name of Committee: Interagency Autism Coordinating Committee (IACC).

Type of Meeting: Subcommittee for Planning the Annual Strategic Planning Process.

Date: April 19, 2010.

Time: 10 a.m. to 12 p.m. Eastern Time.

Agenda: The IACC Subcommittee for Planning the Annual Strategic Planning Process will discuss plans for updating the IACC Strategic Plan for ASD Research.

Place: No in-person meeting; conference call only.

Conference Call: Dial: 888-577-8995, Access code: 1991506.

Contact Person: Ms. Lina Perez, Office of Autism Research Coordination, Office of the Director, National Institute of Mental Health, NIH, 6001 Executive Boulevard, NSC, Room 8200, Bethesda, MD 20892-9669, Phone: (301) 443-6040, IACCPublicInquiries@mail.nih.gov.

Please Note:

The meeting will be open to the public through a conference call phone number. Individuals who participate using this service and who need special assistance, such as captioning of the conference call or other reasonable accommodations, should submit a request at least 10 days prior to the meeting.

Members of the public who participate using the conference call phone number will be able to listen to the meeting but will not be heard.

Information about the IACC is available on the Web site: http://www.iacc.hhs.gov.

Dated: March 23, 2010.
Jennifer Spaeth,
Director, Office of Federal Advisory Committee Policy.

[FR Doc. 2010-6972 Filed 3-29-10; 8:45 am]

BILLING CODE 4140-01-P